DEPARTMENT OF ENERGY

Federal Energy Regulatory Commission

Combined Notice of Filings #1

Take notice that the Commission received the following exempt wholesale generator filings:

Docket Numbers: EG19-55-000.

Applicants: Long Ridge Energy Generation LLC.

Description: Self-Certification of EG of Long Ridge Energy Generation LLC.

Filed Date: 2/8/19.

Accession Number: 20190208-5135.

Comments Due: 5 p.m. ET 3/1/19.

Take notice that the Commission received the following electric rate filings:

Docket Numbers: ER18-1481-002.

Applicants: Duke Energy Florida, LLC.

Description: Compliance filing: DEF Interchange Compliance Filing to be effective 1/1/2019.

Filed Date: 2/11/19.

Accession Number: 20190211-5117.

Comments Due: 5 p.m. ET 3/4/19.

Docket Numbers: ER19-356-001.

Applicants: Southwest Power Pool, Inc.

Description: Tariff Amendment: Deficiency Response—Require All VERs to Register and Convert to DVERs to be effective 1/16/2019.

Filed Date: 2/11/19.

Accession Number: 20190211-5098.

Comments Due: 5 p.m. ET 3/4/19.

Docket Numbers: ER19-601-001.

Applicants: AEP Energy Partners, Inc.

Description: Tariff Amendment: MBR Tariff, FERC Electric Tariff for Market Bases Sales to be effective 3/1/2019.

Filed Date: 2/11/19.

Accession Number: 20190211-5000.

Comments Due: 5 p.m. ET 2/21/19.

Docket Numbers: ER19-606-001.

Applicants: AEP Generation Resources Inc.

Description: Tariff Amendment: MBR Tariff, FERC Electric Tariff For Market-Based Sales to be effective 3/1/2019.

Filed Date: 2/11/19.

Accession Number: 20190211-5002.

Comments Due: 5 p.m. ET 2/21/19.

Docket Numbers: ER19-936-001.

Applicants: New England Power Pool Participants Committee.

Description: Tariff Amendment: Feb 2019 Membership Filing (Corrected) to be effective 1/1/2019.

Filed Date: 2/8/19.

Accession Number: 20190208-5150.

Comments Due: 5 p.m. ET 3/1/19.

Docket Numbers: ER19-1021-000.

Applicants: Appalachian Power Company.

Description: § 205(d) Rate Filing: OATT—Revise Attachment K, AEP Texas Inc. Rate Update to be effective 12/31/9998.

Filed Date: 2/8/19.

Accession Number: 20190208-5114.

Comments Due: 5 p.m. ET 3/1/19.

Docket Numbers: ER19-1022-000.

Applicants: PJM Interconnection, L.L.C.

Description: § 205(d) Rate Filing: First Revised WMPA Service Agreement No. 2033; Queue No. N07 to be effective 1/12/2019.

Filed Date: 2/8/19.

Accession Number: 20190208-5125.

Comments Due: 5 p.m. ET 3/1/19.

Docket Numbers: ER19-1023-000.

Applicants: Spruance Operating Services, LLC.

Description: Baseline eTariff Filing: MBR Application to be effective 3/25/2019.

Filed Date: 2/8/19.

Accession Number: 20190208-5136.

Comments Due: 5 p.m. ET 3/1/19.

Docket Numbers: ER19-1024-000.

Applicants: AEP Generation Resources Inc.

Description: § 205(d) Rate Filing: MBR Tariff, FERC Electric Tariff For Market-Based Sales to be effective 3/1/2019.

Filed Date: 2/8/19.

Accession Number: 20190208-5151.

Comments Due: 5 p.m. ET 3/1/19.

Docket Numbers: ER19-1025-000.

Applicants: Midcontinent Independent System Operator, Inc.

Description: § 205(d) Rate Filing: 2019-02-11_SA 3239 Kossuth Wind-MidAmerican GIA (J534) to be effective 1/28/2019.

Filed Date: 2/11/19.

Accession Number: 20190211-5060.

Comments Due: 5 p.m. ET 3/4/19.

Docket Numbers: ER19-1026-000.

Applicants: Midcontinent Independent System Operator, Inc.

Description: § 205(d) Rate Filing: 2019-02-11_SA 3238 EDF Renewables-MidAmerican FCA (J495) to be effective 1/28/2019.

Filed Date: 2/11/19.

Accession Number: 20190211-5069.

Comments Due: 5 p.m. ET 3/4/19.

Docket Numbers: ER19-1027-000.

Applicants: Midcontinent Independent System Operator, Inc.

Description: § 205(d) Rate Filing: 2019-02-11_SA 2988 MidAmerican-MidAmerican 2nd Rev GIA (J500) to be effective 1/28/2019.

Filed Date: 2/11/19.

Accession Number: 20190211-5073.

Comments Due: 5 p.m. ET 3/4/19.

Docket Numbers: ER19-1028-000.

Applicants: Southwest Power Pool, Inc.

Description: § 205(d) Rate Filing: 1534R9 Kansas Municipal Energy Agency NITSA NOA to be effective 2/1/2019.

Filed Date: 2/11/19.

Accession Number: 20190211-5080.

Comments Due: 5 p.m. ET 3/4/19.

Docket Numbers: ER19-1029-000.

Applicants: Southwestern Public Service Company.

Description: § 205(d) Rate Filing: SPS-GSEC-SPEC-T-IA-Yuma-2-707-0.0.0 to be effective 4/13/2019.

Filed Date: 2/11/19.

Accession Number: 20190211-5094.

Comments Due: 5 p.m. ET 3/4/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 11, 2019.
Nathaniel J. Davis, Sr.,
Deputy Secretary.

[FR Doc. 2019-02499 Filed 2-14-19; 8:45 am]

BILLING CODE 6717-01-P